DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Mammal Protection Act Annual Supplemental Data Report.

OMB Control Number: 0648-xxxx.

Form Number(s): None.

Type of Request: Regular (request for a new information collection).

Number of Respondents: 4,604.

Average Hours per Response: 45 minutes.

Burden Hours: 3,453.

Needs and Uses: This request is for a new information collection.

The Atlantic Large Whale Take Reduction Plan (Plan), developed under the authority of the Marine Mammal Protection Act, seeks to enable the National Marine Fisheries Service (NMFS) to reduce injuries and deaths of large whales, especially right whales, due to incidental entanglement in United States commercial fishing gear. In order to develop fair and effective management measures, the Take Reduction Team (Team) requires comprehensive data on when, where, and how fixed gear vessels fish. While subsets of Plan's vessels report on aspects of their operations, the available data form an incomplete picture. NMFS recognizes that forthcoming changes under select fishery management plans (e.g., the American Lobster Fishery Management Plan) may eventually introduce gear and activity reporting of the type requested. Until those requirements are implemented, however, operators of commercial fishing vessels deploying fixed gear (traps, pots, and gillnets) are requested to complete this annual supplemental data collection form, regardless of fishing location, permit type, or the provision of similar information to other Federal and state agencies. This information will allow NMFS to focus further risk reduction measures in certain areas or fisheries, where needed, to meet the goals of the Plan.

Affected Public: Business or other for-profit organizations; individuals or households.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 14, 2018.
Sarah Brabson,
NOAA PRA Clearance Officer.

[FR Doc. 2018-20329 Filed 9-18-18; 8:45 am]

BILLING CODE 3510-22-P